DEPARTMENT OF COMMERCE

Census Bureau

National Monthly Survey of Volunteering

ACTION: Proposed collection; comment request.

SUMMARY: The Department of Commerce, as part of its continuing effort to reduce paperwork and respondent burden, invites the general public and other federal agencies to take this opportunity to comment on proposed or continuing information collections, as required by the Paperwork Reduction Act of 1995, Public Law 104-13 (44 U.S.C. 3506(c)(2)(A)).

DATES: Written comments must be submitted on or before August 12, 2002.

ADDRESSES: Direct all written comments to Madeleine Clayton, Departmental Paperwork Clearance Officer, Department of Commerce, Room 6608, 14th and Constitution Avenue, NW., Washington, DC 20230 (or via the Internet at mclayton@doc.gov).

FOR FURTHER INFORMATION CONTACT: Requests for additional information or copies of the information collection instrument(s) and instructions should be directed to Ken Kaplan, U.S. Census Bureau, FOB 3, Room 3351, Washington, DC 20233-8400 at (301) 457-3836.

SUPPLEMENTARY INFORMATION:

I. Abstract

This monthly national survey will be conducted for 24 months beginning in September 2002 at the request of the USA Freedom Corps. This Survey of Volunteering will provide information on the total number of individuals in the United States involved in unpaid volunteer activities, factors that motivate volunteering, measures of the frequency or intensity with which individuals volunteer, types of organizations that facilitate volunteering, and activities in which volunteers participate.

Each month we will select a sample of 1,800 households from expired Current Population Survey (CPS) rotations. We will collect data for all persons 15 years of age or older. Proxy interviews are acceptable. There will be a total of 12 questions each month with some new questions rotating in quarterly to replace some existing questions. We may link to the CPS data for these respondents for analytical purposes.

II. Method of Collection

The data collection methodology will utilize computer-assisted telephone interviewing (CATI) in one of the Census Bureau's telephone centers.

III. Data

OMB Number: Not available.

Form Number: There will not be a form number because the survey will be conducted by CATI.

Type of Review: New collection.

Affected Public: Individuals or households.

Estimated Number of Respondents: 1,800 households monthly.

Estimated Time Per Response: 20 minutes per household.

Estimated Total Annual Burden Hours: 7,200 hours.

Estimated Total Annual Cost: There is no cost to respondents other than their time.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: June 6, 2002.
Madeleine Clayton,
Departmental Paperwork Clearance Officer, Office of the Chief Information Officer.

[FR Doc. 02-14661 Filed 6-10-02; 8:45 am]

BILLING CODE 3510-07-P